DEPARTMENT OF THE INTERIOR

Bureau of Land Management

[NV-050-5853-ES; N-37108; 7-08807]

Notice of Realty Action: Recreation and Public Purposes Change of Use; Nevada

AGENCY: Bureau of Land Management, Interior.

ACTION: Notice of realty action.

SUMMARY: The City of Las Vegas (City) has filed an application with the Bureau of Land Management to change the use of Recreation and Public Purposes (R&PP) Act lease N-37056 from a fire station to a public park.

DATES: Interested parties may submit written comments regarding the proposed lease of the lands until August 10, 2007.

ADDRESSES: Send written comments to the Field Manager, Bureau of Land Management, Las Vegas Field Office, 4701 N. Torrey Pines Drive, Las Vegas, Nevada 89130-2301.

FOR FURTHER INFORMATION CONTACT: Kim Liebhauser, Supervisory Realty Specialist, Bureau of Land Management, Las Vegas Field Office, at (702) 515-5088.

SUPPLEMENTARY INFORMATION: A Notice of Realty Action previously published classified the subject land for fire station purposes and segregated it under the R&PP Act as serial number N-37056. Subsequently, a lease was issued on June 1, 1984, to the City. The City has determined there is no longer a need for a fire station and wants to change the use of the subject land for a public park.

Mount Diablo Meridian

T. 19 S., R. 60 E.,

Sec. 13, N½NW¼NW¼NE¼.

The area described contains 5 acres, more or less, in Clark County.

The land is not required for any Federal purpose. The lease is consistent with the BLM Las Vegas Resource Management Plan dated October 5, 1998, and would be in the public interest. The lease or conveyance when issued, will be subject to the provisions of the R&PP Act and applicable regulations of the Secretary of the Interior, and will contain the following reservations to the United States:

1. A right-of-way thereon for ditches or canals constructed by the authority of the United States, Act of August 30, 1890 (43 U.S.C. 945); and

2. All minerals, together with the right to prospect for, mine and remove such deposits from the same under applicable law and such regulations as the Secretary of the Interior may prescribe.

The lease or conveyance will be subject to:

1. All valid existing rights;

2. Right-of-way N-65703 for underground telephone distribution line purposes granted to Central Telephone Co., its successors or assigns, pursuant to the Act of October 21, 1976 (43 U.S.C. 1761);

3. Right-of-way N-75045 for underground water distribution line purposes granted to Las Vegas Valley Water District, their successors or assigns, pursuant to the Act of October 21, 1976 (43 U.S.C. 1761); and

4. Right-of-way N-77002 for underground distribution line purposes granted to Nevada Power Co., its successors or assigns, pursuant to the Act of October 21, 1976 (43 U.S.C. 1761).

Detailed information concerning this action is available for review in the office of the Bureau of Land Management, Las Vegas Field Office at the address listed above.

On June 26, 2007, the above described land is segregated from all forms of appropriation under the public land laws, including the general mining laws, except for lease or conveyance under the R&PP Act, leasing under the mineral leasing laws and disposals under the mineral material disposal laws.

Application Comments: Interested parties may submit written comments regarding the specific use proposed in the application and plan of development, whether the BLM followed proper administrative procedures in reaching the decision, or any other factor not directly related to the suitability of the land for a public park. To be considered, comments must be received at the BLM Las Vegas Field Office on or before the date stated above in this notice for that purpose. Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager—BLM Las Vegas Field Office will be considered properly filed. E-mail, facsimile or telephone comments will not be considered as properly filed. Any adverse comments will be reviewed by the BLM, Nevada State Director. In the absence of any adverse comments, this realty action will become the final determination of the Department of the Interior on August 27, 2007.

(Authority: 43 CFR 2741)

Dated: April 19, 2007.
Mark R. Chatterton,
Assistant Field Manager, Non-Renewable Resources.

[FR Doc. E7-12363 Filed 6-25-07; 8:45 am]

BILLING CODE 4310-HC-P